NUCLEAR REGULATORY COMMISSION

[Docket No. 70-143-LA; ASLBP No. 23-976-01-LA-BD02]

Nuclear Fuel Services, Inc.; Establishment of Atomic Safety and Licensing Board

Pursuant to the Commission's regulations, see, e.g., 10 CFR 2.104, 2.105, 2.300, 2.309, 2.313, 2.318, and 2.321, notice is hereby given that an Atomic Safety and Licensing Board (Board) is being established to preside over the following proceeding:

Nuclear Fuel Services, Inc.

(License Amendment Application)

Nuclear Fuel Services, Inc. seeks to amend special nuclear materials license number SNM-124 to provide uranium purification and conversion services pursuant to a contract with the National Nuclear Security Administration, U.S. Department of Energy. In response to a notice published in the Federal Register announcing the opportunity to request a hearing, see 87 FR 53,507 (Aug. 31, 2022), Terry Lodge filed a hearing request on behalf of Erwin Citizens Awareness Network on October 31, 2022.

The Board is comprised of the following Administrative Judges:

G. Paul Bollwerk, III, Chair, Atomic Safety and Licensing Board Panel, U.S. Nuclear Regulatory Commission, Washington, DC 20555-0001

William J. Froehlich, Atomic Safety and Licensing Board Panel, U.S. Nuclear Regulatory Commission, Washington, DC 20555-0001

Dr. Sue H. Abreu, Atomic Safety and Licensing Board Panel, U.S. Nuclear Regulatory Commission, Washington, DC 20555-0001

All correspondence, documents, and other materials shall be filed in accordance with the NRC E-Filing rule, 10 CFR 2.302.

Rockville, Maryland.
Dated: November 7, 2022.
Edward R. Hawkens,
Chief Administrative Judge, Atomic Safety and Licensing Board Panel.

[FR Doc. 2022-24603 Filed 11-9-22; 8:45 am]

BILLING CODE 7590-01-P